EXPORT-IMPORT BANK OF THE UNITED STATES

Sunshine Act Meeting

ACTION: Notice of an Open Meeting of the Board of Directors of the Export-Import Bank of the United States.

TIME AND PLACE: Thursday, December 12, 2013 at 9:30 a.m. The meeting will be held at Ex-Im Bank in Room 321, 811 Vermont Avenue NW., Washington, DC 20571.

OPEN AGENDA ITEMS: Item No. 1 Ex-Im Bank Advisory Committee for 2014 (New Members)

Item No. 2 Ex-Im Bank's Environmental Procedures and Guidelines

PUBLIC PARTICIPATION: The meeting will be open to public observation for Items No. 1 & 2 only.

FURTHER INFORMATION: Members of the public who wish to attend the meeting should call Joyce Stone, Office of the Secretary, 811 Vermont Avenue NW., Washington, DC 20571 (202) 565-3336 by close of business Tuesday, December 10, 2013.

Cristopolis Dieguez,
Program Specialist, Office of the General Counsel.

[FR Doc. 2013-29046 Filed 12-2-13; 11:15 am]

BILLING CODE 6690-01-P